NATIONAL SCIENCE FOUNDATION

Sunshine Act Meetings

The National Science Board's Committee on Strategy's Subcommittee on Technology, Innovation and Partnerships hereby gives notice of the scheduling of a teleconference for the transaction of National Science Board business pursuant to the NSF Act and the Government in the Sunshine Act.

TIME AND DATE: Thursday, September 15, 2022, from 10:00-11:00 a.m. EDT.

PLACE: This meeting will be via videoconference through the National Science Foundation, 2415 Eisenhower Avenue, Alexandria, VA 22314.

STATUS: Closed.

MATTERS TO BE CONSIDERED The agenda is: Subcommittee Chair's Opening Remarks; Approval of August 3, 2022, minutes; Implications of CHIPS and Science Act for the Technology, Innovation, and Partnerships (TIP) directorate priorities, programming, and future budget allocations; and funding considerations for maximizing NSF opportunities under the CHIPS Act.

CONTACT PERSON FOR MORE INFORMATION: Point of contact for this meeting is: Chris Blair, cblair@nsf.gov, 703/292-7000. Meeting information and updates may be found at www.nsf.gov/nsb.

Chris Blair,
Executive Assistant to the National Science Board Office.

[FR Doc. 2022-19878 Filed 9-9-22; 4:15 pm]

BILLING CODE 7555-01-P